DEPARTMENT OF AGRICULTURE

Animal and Plant Health Inspection Service

7 CFR Part 319

[Docket No. 03-016-2]

Cut Flowers From Countries With Chrysanthemum White Rust

AGENCY: Animal and Plant Health Inspection Service, USDA.

ACTION: Proposed rule; reopening of a comment period.

SUMMARY: We are reopening the comment period for our proposed rule that would amend the cut flowers regulations to establish specific requirements for the importation of cut flowers that are hosts of chrysanthemum white rust (CWR) from countries where the disease is known to occur. We also proposed to amend the nursery stock regulations to update lists of countries where CWR is known to occur. This action will allow interested persons additional time to prepare and submit comments.

DATES: We will consider all comments that we receive on Docket No. 03-016-1 on or before October 21, 2005.

ADDRESSES: You may submit comments by any of the following methods:

• EDOCKET: Go to http://www.epa.gov/feddocket to submit or view public comments, access the index listing of the contents of the official public docket, and to access those documents in the public docket that are available electronically. Once you have entered EDOCKET, click on the “View Open APHIS Dockets” link to locate Docket No. 03-016-1.

• Postal Mail/Commercial Delivery: Please send four copies of your comment (an original and three copies) to Docket No. 03-016-1, Regulatory Analysis and Development, PPD, APHIS, Station 3C71, 4700 River Road Unit 118, Riverdale, MD 20737-1238. Please state that your comment refers to Docket No. 03-016-1.

• Federal eRulemaking Portal: Go to http://www.regulations.gov and follow the instructions for locating Docket No. 03-016-1 and submitting comments.

Reading Room: You may read any comments that we receive on Docket No. 03-016-1 in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: Ms. Sharon Porsche, Import Specialist, Commodity Import Analysis and Operation, PPQ, APHIS, 4700 River Road Unit 133, Riverdale, MD 20737-1231; (301) 734-5281.

SUPPLEMENTARY INFORMATION: On July 7, 2005, we published in the Federal Register (70 FR 39194-39199, Docket No. 03-016-1) a proposal to amend the cut flowers regulations to establish specific requirements for the importation of cut flowers that are hosts of chrysanthemum white rust (CWR) from countries where the disease is known to occur. We also proposed to amend the nursery stock regulations to update lists of countries where CWR is known to occur.

Comments on the proposed rule were required to be received on or before September 6, 2005. We are reopening the comment period on Docket No. 03-016-1 until October 21, 2005, an additional 45 days from the original close of the comment period. This action will allow interested persons additional time to prepare and submit comments. We will also consider all comments received between September 7, 2005 (the day after the close of the original comment period) and the date of this notice.

Done in Washington, DC, this 13th day of September 2005.
W. Ron DeHaven,
Administrator, Animal and Plant Health Inspection Service.

[FR Doc. 05-18604 Filed 9-19-05; 8:45 am]

BILLING CODE 3410-34-P